DEPARTMENT OF ENERGY

Agency Information Collection Extension

AGENCY: U.S. Department of Energy.

ACTION: Notice of request for comments.

SUMMARY: The Department of Energy (DOE), pursuant to the Paperwork Reduction Act of 1995, intends to extend for three years, an information collection request with the Office of Management and Budget (OMB). The information collection requests a three-year extension of its collection, titled Assistance to Foreign Atomic Energy Activities, OMB Control Number 1901-0263.

DATES: Comments regarding this proposed information collection must be received on or before February 9, 2026. If you anticipate any difficulty in submitting comments within that period, contact the person listed in the FOR FURTHER INFORMATION CONTACT section as soon as possible.

ADDRESSES: Written comments may be sent by email to part810@nnsa.doe.gov. Include “Paperwork Reduction Act” in the subject line. Comments can also be sent by mail to Andrew Lyman, Senior Policy Advisor, Office of Nonproliferation and Arms Control, NA-24, National Nuclear Security Administration, Department of Energy, 1000 Independence Avenue SW, Washington, DC 20585. Due to potential delays in DOE's receipt and processing of mail sent through the U.S. Postal Service, DOE encourages responders to submit comments electronically to ensure timely receipt.

FOR FURTHER INFORMATION CONTACT: Additional information on DOE's regulation of assistance to foreign atomic energy activities pursuant to 10 CFR part 810 is available at www.energy.gov/nnsa/10-cfr-part-810. For other questions, email to part810@nnsa.doe.gov or contact Andrew Lyman, Senior Policy Advisor, Office of Nonproliferation and Arms Control, NA-24, National Nuclear Security Administration, Department of Energy, 1000 Independence Avenue SW, Washington, DC 20585, telephone (202) 287-1025.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1901-0263;

(2) Information Collection Request Titled: Assistance to Foreign Atomic Energy Activities;

(3) Type of Review: Extension;

(4) Purpose: This collection of information from U.S. exporters is necessary in order to provide the Secretary of Energy with the appropriate information needed to make informed determinations regarding requests to directly or indirectly engage or participate in the development or production of special nuclear material outside the United States.

(5) Annual Estimated Number of Respondents: 303;

(6) Annual Estimated Number of Total Responses: 681;

(7) Annual Estimated Number of Burden Hours: 1,127;

(8) Annual Estimated Reporting and Recordkeeping Cost Burden: $76,397.

Statutory Authority: Sections 57 b.(2) and 161p. of the Atomic Energy Act of 1954, as amended (AEA), 10 CFR part 810.

Signing Authority

This document of the Department of Energy was signed on December 9, 2025, by Matthew Napoli, Deputy Administrator for Defense Nuclear Nonproliferation, National Nuclear Security Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 9, 2025.
Jennifer Hartzell,
Alternate Federal Register Liaison Officer, U.S. Department of Energy.

[FR Doc. 2025-22572 Filed 12-10-25; 8:45 am]

BILLING CODE 6450-01-P